DEPARTMENT OF LABOR

Office of the Secretary

Submission for OMB Review: Comment Request

March 18, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number); e-mail: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/Fax: 202-395-5806 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Emergency Mine Evacuation.

OMB Control Number: 1219-0141.

Form Number: MSHA 2000-222.

Estimated Number of Respondents: 622.

Estimated Total Annual Burden Hours: 7,836.

Estimated Total Annual Cost Burden (does not include hourly wage costs): $68,528.

Affected Public: In support of 30 CFR parts 48, 50, & 75 to improve the emergency evacuation and rescue in underground coal mines, these regulations include requirements for immediate accident notification applicable to all mines. In addition, they contain reporting and recordkeeping requirements for new and expanded training, including evacuation drills; self-contained self-rescuer (SCSR) storage, training, and use; and the installation and maintenance of lifelines in underground coal mines. For additional information, see related notice published in the Federal Register on December 4, 2009 (74 FR 63794).

Darrin A. King,
Departmental Clearance Officer.

[FR Doc. 2010-6348 Filed 3-22-10; 8:45 am]

BILLING CODE 4510-43-P